DEPARTMENT OF COMMERCE

International Trade Administration

Massachusetts Institute of Technology; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 02-024. Applicant: Massachusetts Institute of Technology, Cambridge, MA 02139-4307. Instrument: Universal 5 Axis High Speed Machining Center, Model UCP 600. Manufacturer: Mikron, Switzerland. Intended Use: See notice at 67 FR 45481, July 9, 2002.

Comments: None received. Decision: Approved. No instrument of equivalent scientific value to the foreign instrument, for such purposes as it is intended to be used, is being manufactured in the United States. Reasons: The foreign instrument provides: (1) Simultaneous 5-axis shaping with demonstrated software for turbine blades, (2) very high positioning accuracy (<0.0002 inch), (3) optical feedback positioning technology such as glass scales and (4) 5-axis shaping capability of a 6-inch cube or better. A domestic manufacturer of similar of equipment advised September 12, 2002 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-24005 Filed 9-19-02; 8:45 am]

BILLING CODE 3510-DS-P